DEPARTMENT OF COMMERCE

National Oceanic and Atmospheric Administration

RIN 0648-XE773

Marine Mammals; File No. 20341

AGENCY: National Marine Fisheries Service (NMFS), National Oceanic and Atmospheric Administration (NOAA), Commerce.

ACTION: Notice; receipt of application.

SUMMARY: Notice is hereby given that Craig Matkin, North Gulf Oceanic Society, 3430 Main St., Suite B1, Homer, Alaska 99603, has applied in due form for a permit to conduct research on cetaceans.

DATES: Written, telefaxed, or email comments must be received on or before September 28, 2016.

ADDRESSES: The application and related documents are available for review by selecting “Records Open for Public Comment” from the “Features” box on the Applications and Permits for Protected Species (APPS) home page, https://apps.nmfs.noaa.gov, and then selecting File No. 20341 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to continue a long-term research study of killer whales (Orcinus orca) in Alaskan waters, focusing on population abundance, social structure, feeding behavior, and movement patterns. Other non-ESA listed cetacean species would be studied along the North Gulf Coast of Alaska in relation to U.S. Navy testing activities. Research methods include photo-identification, passive acoustics, collection of prey remains, morphometrics, biopsy sampling, and deployment of both suction cup and dart tags. Up to 2,000 killer whales may be photographed annually, with smaller numbers of whales receiving tags or biopsy sampled. Other species to be studied include gray whales (Eschrichtius robustus), minke whales (Balaenoptera acutorostrata), Baird's beaked whales (Berardius bairdii), Cuvier's beaked whales (Ziphius cavirostris), and Stejneger's beaked whales (Mesoplodon stenergeri). Prey remains may be collected from up to 25 each of the following carcasses: Minke whales, gray whale, harbor porpoise (Phocoena phocoena), Dall's porpoise (Phocoenoides dalli), harbor seals (Phoca vitulina), Pacific white-sided dolphins (Lagenorhynchus obliquidens), and Northern fur seals (Callorhinus ursinus). The permit would be valid for five years from the date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 24, 2016.
Julia Harrison,
Chief, Permits and Conservation Division, Office of Protected Resources, National Marine Fisheries Service.

[FR Doc. 2016-20614 Filed 8-26-16; 8:45 am]

BILLING CODE 3510-22-P